DEPARTMENT OF HEALTH AND HUMAN SERVICES

Administration for Children and Families

Federal Allotments to State Developmental Disabilities Councils and Protection and Advocacy Formula Grant Programs for Fiscal Year 2003

AGENCY: Administration on Developmental Disabilities (ADD), Administration for Children and Families, Department of Health and Human Services.

ACTION: Notification of Fiscal Year 2003 Federal allotments to State Developmental Disabilities Councils and Protection and Advocacy Formula grant programs.

SUMMARY: This notice sets forth Fiscal Year (FY) 2003 individual allotments and percentages of the total appropriation to States administering the State Developmental Disabilities Councils and Protection and Advocacy programs, pursuant to Section 122 and Section 142 of the Developmental Disabilities Assistance and Bill of Rights Act (Act). The allotment amounts are based upon the FY 2002 Budget Request and are contingent upon congressional appropriations for FY 2003. If Congress enacts and the President approves a different appropriation amount, the allotments will be adjusted accordingly. The State allotments will be available each year on the ADD homepage on the Internet: http://www.acf.dhhs.gov/programs/add/.

EFFECTIVE DATE: October 1, 2002.

FOR FURTHER INFORMATION CONTACT: Doris Lee, Grants Fiscal Management Specialist, Office of Grants Management, Administration for Children and Families, telephone (202) 205-4626.

SUPPLEMENTARY INFORMATION: Section 122(a)(2) of the Act requires that adjustments in the amounts of State allotments shall be made not more often than annually and that States must be notified no less than six (6) months before the beginning of the fiscal year in which such adjustment is to take effect. In relation to the State Developmental Disabilities Council allotments, the descriptions of service needs were reviewed in the State plans and are consistent with the results obtained from the data elements and projected formula amounts for each State (Section 122(a)(5)).

The Administration on Developmental Disabilities has updated the following data elements for issuance of Fiscal Year 2003 allotments for both of the Developmental Disabilities formula grant programs.

A. The number of beneficiaries in each State and Territory under the Childhood Disabilities Beneficiary Program are from Table 5.J10 of the “Annual Statistical Supplement, 2001, to the Social Security Bulletin” issued by the Social Security Administration;

B. State data on Average Per Capita Income are from Table 1—Per Capita Personal Income, 1991-2000 of the “Survey of Current Business,” November, 2001, issued by the Bureau of Economic Analysis, U.S. Department of Commerce. The most recent comparable data for the Territories were obtained from the Department of Commerce October, 2000; and

C. State data on Total Population and Working Population (ages 18-64) are based on 2000 Census from the “Estimate of Resident Population of the U.S. by Selected Age Groups and Sex,” issued by the Bureau of the Census, U.S. Department of Commerce. Total population estimates for the Territories are also based on 2000 Census data issued by the Bureau of Census. The Territories working population was issued in the Bureau of Census report, “General Characteristics Report: 1980,” which is the most recent data available from the Bureau.

Table 1.—FY 2003 Allotments—Administration on Developmental Disabilities
| Developmental Disabilities Councils | Percentage of total appropriation
Alabama | $1,285,711 | 1.841993
Alaska | 446,374 | .639504
Arizona | 1,121,495 | 1.606726
Arkansas | 789,163 | 1.130606
California | 6,385,753 | 9.148643
Colorado | 754,297 | 1.080655
Connecticut | 637,453 | 0.913257
Delaware | 446,374 | .639504
District of Columbia | 446,374 | .639504
Florida | 3,438,186 | 4.925768
Georgia | 1,847,000 | 2.646132
Hawaii | 446,374 | .639504
Idaho | 446,374 | .639504
Illinois | 2,615,776 | 3.747530
Indiana | 1,483,364 | 2.125163
Iowa | 741,508 | 1.062333
Kansas | 608,716 | .872086
Kentucky | 1,181,052 | 1.692052
Louisiana | 1,331,411 | 1.907466
Maine | 446,374 | .639504
Maryland | 1,005,718 | 1.440857
Massachusetts | 1,282,287 | 1.837088
Michigan | 2,427,059 | 3.477162
Minnesota | 1,020,449 | 1.461961
Mississippi | 925,309 | 1.325658
Missouri | 1,357,149 | 1.944340
Montana | 446,374 | .639504
Nebraska | 446,374 | .639504
Nevada | 446,374 | .639504
New Hampshire | 446,374 | .639504
New Jersey | 1,555,524 | 2.228544
New Mexico | 505,480 | .724184
New York | 4,026,994 | 5.769332
North Carolina | 1,949,039 | 2.792320
North Dakota | 446,374 | .639504
Ohio | 2,808,310 | 4.023367
Oklahoma | 896,268 | 1.284052
Oregon | 741,028 | 1.061645
Pennsylvania | 2,979,037 | 4.267961
Rhode Island | 446,374 | .639504
South Carolina | 1,109,913 | 1.590133
South Dakota | 446,374 | .639504
Tennessee | 1,485,376 | 2.128046
Texas | 4,418,646 | 6.330438
Utah | 560,646 | .803218
Vermont | 446,374 | .639504
Virginia | 1,493,292 | 2.139387
Washington | 1,141,734 | 1.635722
West Virginia | 662,448 | .949066
Wisconsin | 1,283,244 | 1.838459
Wyoming | 446,374 | .639504
American Samoa | 234,348 | .335742
Guam | 234,348 | .335742
Northern Mariana Islands | 234,348 | .335742
Puerto Rico | 2,311,163 | 3.311122
Virgin Islands | 234,348 | .335742
Total | $69,800,000 | 100.000000

Table 2.—FY 2003 Allotments—Administration on Developmental Disabilities
| Protection and advocacy | Percentage of total appropriation
Alabama | $578,462 | 1.686478
Alaska | 333,400 | .972012
Arizona | 510,837 | 1.489321
Arkansas | 355,110 | 1.035306
California | 2,874,486 | 8.380426
Colorado | 374,374 | 1.091469
Connecticut | 345,433 | 1.007093
Delaware | 333,400 | .972012
District of Columbia | 333,400 | .072012
Florida | 1,547,567 | 4.511857
Georgia | 831,243 | 2.423449
Hawaii | 333,400 | .972012
Idaho | 333,400 | .972012
Illinois | 1,176,955 | 3.431356
Indiana | 667,478 | 1.946000
Iowa | 340,000 | .991254
Kansas | 333,400 | .972012
Kentucky | 531,337 | 1.549087
Louisiana | 598,988 | 1.746231
Maine | 333,400 | .972012
Maryland | 452,605 | 1.319548
Massachusetts | 576,790 | 1.681603
Michigan | 1,091,837 | 3.183198
Minnesota | 459,176 | 1.338706
Mississippi | 416,307 | 1.213723
Missouri | 610,676 | 1.780397
Montana | 333,400 | .972012
Nebraska | 333,400 | .972012
Nevada | 333,400 | .972012
New Hampshire | 333,400 | .972012
New Jersey | 699,877 | 2.040458
New Mexico | 333,400 | .972012
New York | 1,811,462 | 5.281230
North Carolina | 877,066 | 2.557044
North Dakota | 333,400 | .972012
Ohio | 1,263,454 | 3.683539
Oklahoma | 403,390 | 1.176064
Oregon | 352,753 | 1.028434
Pennsylvania | 1,340,145 | 3.907128
Rhode Island | 333,400 | .972012
South Carolina | 499,417 | 1.456026
South Dakota | 333,400 | .972012
Tennessee | 668,314 | 1.948437
Texas | 1,989,098 | 5.799120
Utah | 333,400 | .972012
Vermont | 333,400 | .972012
Virginia | 671,977 | 1.959117
Washington | 513,912 | 1.498286
West Virginia | 358,836 | 1.046169
Wisconsin | 577,382 | 1.683329
Wyoming | 333,400 | .972012
American Samoa | 178,367 | .520020
Guam | 178,367 | .520020
Northern Mariana Islands | 178,367 | .520020
Puerto Rico | 1,040,221 | 3.032714
Virgin Islands | 178,367 | .520020
DNA People Legal Services² | 178,367 | .520020
Total | ¹ $34,300,000 | 100.000000
¹ In accordance with Public Law 106-402, Section 142(a)(6)(A), $700,000 has been withheld to fund technical assistance. The statute provides for spending up to two percent (2%) of the amount appropriated under Section 142 for this purpose. Unused funds will be reallotted in accordance with Section 122(e) of the Act.
² American Indian Consortiums are eligible to receive an allotment under Section 142(a)(6)(B) of the Act.

Dated: May 1, 2002.
Patricia A. Morrissey,
Commissioner, Administration on Developmental Disabilities.

[FR Doc. 02-14657 Filed 6-10-02; 8:45 am]

BILLING CODE 4184-01-P